ENVIRONMENTAL PROTECTION AGENCY

[ER-FRL-9000-8]

Environmental Impacts Statements; Notice of Availability

AGENCY: Responsible Agency: Office of Federal Activities, General Information (202) 564-1399 or http://www.epa.gov/compliance/nepa/.

Weekly receipt of Environmental Impact Statements.

Filed 12/19/2011 through 12/23/2011.

Pursuant to 40 CFR 1506.9

Notice

Section 309(a) of the Clean Air Act requires that EPA make public its comments on EISs issued by other Federal agencies. EPA's comment letters on EIS are available at: http://www.epa.gov/compliance/nepa/eisdata.html.

EIS No. 20110430, Draft EIS, HUD, CA, Alice Griffith Redevelopment Project, Redevelopment of the #4-Arce “Project Site” for 1,200 New Dwelling Units, Retail Development, Open Space and Associated Infrastructure, City and County of San Francisco, CA, Comment Period Ends: 02/13/2012, Contact: Eugene T. Flannery (415) 701-5598.

EIS No. 20110431, Draft EIS, USFS, NV, Geothermal Leasing on the Humboldt-Toiyabe National Forest, To Facilitate the Development and Production of Geothermal Energy, Ely, Austin, Tonopah and Bridgeport Ranger Districts, NV, Comment Period Ends: 02/13/2012, Contact: Keith Whaley (760) 932-7070.

EIS No. 20110432, Final EIS, USACE, FL, Brevard County, Florida Hurricane and Storm Damage Reduction Project, To Reduce the Damages Caused by Erosion and Coastal Storms to Shorefront Structures Along the Mid-Reach Segment, Implementation, Brevard County, FL, Review Period Ends:01/30/2012, Contact: Candida Bronson (904) 232-1697.

EIS No. 20110433, Draft EIS, USFS, SD, Vestal Project, Commercial and Non-commercial Vegetation Treatments and Prescribed Burning to Reduce Mountain Pine Beetle Risk and Fire Hazard, Hell Canyon Ranger District, Black Hills National Forest, Custer County, SD, Comment Period Ends:02/13/2012, Contact: Kelly Honors (605) 673-4853.

EIS No. 20110434, Draft EIS, DOI, 00, Gulf of Mexico Outer Continental Shelf (OCS) Oil and Gas Lease Sales: 2012-2017 Western Planning Area Lease Sales 229, 233, 238, 246, and 248: Central Planning Area Lease Sales 227, 231, 235, 241, and 247, TX, LA, MS, AL and Northwestern FL, Comment Period Ends: 02/13/2012, Contact: Gary Goeke (504) 736-3233.

EIS No. 20110435, Final EIS, NPS, IL, Lincoln Home National Historic Site, General Management Plan, Implementation, Sangamon County, Springfield, IL, Review Period Ends: 01/30/2012, Contact: Nick Chevance (402) 661-1844.

EIS No. 20110436, Draft EIS, NOAA, AK, Effects of Oil and Gas Activities in the Arctic Ocean, Beaufort and Chukchi Seas, AK, Comment Period Ends: 02/13/2012, Contact: James H. Lecky (301) 713-1632.

EIS No. 20110437, Draft EIS, USFS, UT, Chicken Creek Gypsum Mine, Proposed Plan of Operations to Conduct Mining Operations, San Pitch Mountains, Sanpete Ranger District, Manti-La Sal National Forest, Juab County, UT, Comment Period Ends: 02/13/2012, Contact: Karl Boyer (435) 637-2817.

EIS No. 20110438, Draft EIS, USFS, ID, Scriver Integrated Restoration Project, Improve Watershed Conditions by Reducing Road-Related Impacts to Wildlife, Fish, Soil, and Water Resources and Restoration of 2010 Forest Plan Vegetation Conditions, Emmett Ranger District, Boise National Forest, Boise and Valley Counties, ID, Comment Period Ends: 02/13/2012, Contact: Melissa Yenko (208) 373-4245.

Amended Notices

EIS No. 20110307, Draft EIS, BLM, CO, Colorado River Valley (formerly known as Glenwood Springs) Resource Management Plan, Implementation, Colorado River Valley Field Office, Portions of Eagle, Garfield, Mesa, Ritkin, and Routt Counties, CO, Comment Period Ends: 01/17/2012, Contact:John Russell (970) 876-9025.

Revision to Notice Published 09/16/2011: Extending Comment Period from 12/14/2011 to 01/17/2012.

Dated: December 27, 2011.
Elaine Suriano,
Environmental Protection Special, Office of Federal Activities.

[FR Doc. 2011-33618 Filed 12-29-11; 8:45 am]

BILLING CODE 6560-50-P